OFFICE OF MANAGEMENT AND BUDGET

Agency Information Collection Activities: Submission for the Office of Management and Budget (OMB) Review; Comment Requested

AGENCY: Office of Management and Budget

ACTION: Notice of the OMB review of information collection and solicitation of public comment.

SUMMARY: The Office of Management and Budget (OMB) has recently submitted to OMB for review the following three proposals for collection of information under the provisions of the Paperwork Reduction Act of 1995 (44 U.S.C. chapter 35).

OMB Control No.: 0348-0004.

Title: Request for Advance or Reimbursement.

Form No: SF-270.

Type of Review: Extension of a currently approved collection.

Respondents: States, Local Governments, Non-Profit organizations.

Number of Responses: 100,000.

Estimated Time Per Response: 60 minutes.

Needs and Uses: The SF-270 is used to request funds for all nonconstruction grant programs when letters or credit or predetermined advance methods are not used. The Federal awarding agencies and OMB use information reported on this form for general management of Federal assistance awards programs.

OMB Control No.: 0348-0002.

Title: Outlay and Request for Reimbursement for Construction Programs.

Form No: SF-271.

Type of Review: Extension of a currently approved collection.

Respondents: States, Local Governments, Non-Profit organizations.

Number of Responses: 40,000.

Estimated Time Per Response: 60 minutes.

Needs and Uses: The SF-271 is used to request reimbursement for all construction grant programs. The Federal awarding agencies and OMB use information reported on this form for general management of Federal assistance awards programs.

OMB Control No.: 0348-0046.

Title: Disclosure of Lobbying Activities.

Form No: SF-LLL.

Type of Review: Extension of a currently approved collection.

Respondents: States, Local Governments, Non-profit organizations, Individuals, Businesses.

Number of Responses: 300.

Estimated Time Per Response: 10 minutes.

Needs and Uses: The SF-LLL is the standard disclosure form for Lobbying paid for with non-Federal funds, as required by the Byrd Amendment, as amended by the Lobbying Disclosure Act of 1995.

Abstract: On April 1, 2003, the Office of Management and Budget (OMB) published a Notice in the Federal Register (68 FR 15772) seeking comments on the renewal without change of three standard forms, the SF-270, Requests for Advance or Reimbursement; the SF-271, Outlay Report and Request for Reimbursement for Construction Programs; and the SF-LLL, Disclosure of Lobbying Activities. These forms are required by OMB Circulars A-102, “Grants and Cooperative Agreements with State and Local Governments,” and A-110, “Uniform Administrative Requirements for Grants and Agreements with Institutions of Higher Education, Hospitals, and Other Non-profit Organizations.” No comments were received.

Copies of these forms can be downloaded from the OMB Grants Management home page (http://www.whitehouse.gov/OMB/Grants).

Comments and questions should be directed to the OMB Desk Officer by [insert date 30 days after publication]. Comments received after this date will be considered if it is practical to do so, but assurance of consideration cannot be given to comments received after this date.

Joseph L. Kull,
Deputy Controller.

[FR Doc. 03-16983 Filed 7-3-03; 8:45 am]

BILLING CODE 3110-01-M